DEPARTMENT OF COMMERCE

National Oceanic and Atmospheric Administration

RIN 0648-XE421

Atlantic Highly Migratory Species; Meeting of the Atlantic Highly Migratory Species Advisory Panel

AGENCY: National Marine Fisheries Service (NMFS), National Oceanic and Atmospheric Administration (NOAA), Commerce.

ACTION: Notice of public meeting and webinar/conference call.

SUMMARY: NMFS will hold a 3-day Atlantic Highly Migratory Species (HMS) Advisory Panel (AP) meeting in March 2016. The intent of the meeting is to consider options for the conservation and management of Atlantic HMS. The meeting is open to the public.

DATES: The AP meeting and webinar will be held from 10:30 a.m. to 6 p.m. on Tuesday, March 29, 2016; from 8:30 a.m. to 6 p.m. on Wednesday, March 30, 2016; and from 8:30 a.m. to 12 p.m. on Thursday, March 31, 2016. There will be an introduction for new AP members at 9 a.m. on Tuesday, March 29, 2016.

ADDRESSES: The meeting will be held at the DoubleTree by Hilton Hotel, 8120 Wisconsin Avenue, Bethesda, MD 20814. The meeting presentations will also be available via WebEx webinar/conference call.

On Tuesday, March 29, 2016, the conference call information is phone number 1-888-566-6157; Participant Code: 5998985; and the webinar event address is: https://noaaevents2.webex.com/noaaevents2/onstage/g.php?MTID=ee08141a7a0cf50251a257df9d3b931fa; event password: NOAA.

On Wednesday, March 30, 2016, the conference call information is phone number 1-888-282-0431; Participant Code: 9825698; and the webinar event address is: https://noaaevents2.webex.com/noaaevents2/onstage/g.php?MTID=ee29585c757454c5e48b292d7dc2fc95f; event password: NOAA.

On Thursday, March 31, 2016, the conference call information is phone number 1-800-593-9960; Participant Code: 5039500; and the webinar event address is: https://noaaevents2.webex.com/noaaevents2/onstage/g.php?MTID=e9dc5e094b476fc2b3621dfbe73e9cd6c; event password: NOAA.

Participants are strongly encouraged to log/dial in fifteen minutes prior to the meeting. NMFS will show the presentations via webinar and allow public comment during identified times on the agenda.

FOR FURTHER INFORMATION CONTACT: Guy DuBeck or Margo Schulze-Haugen at (301) 427-8503.

SUPPLEMENTARY INFORMATION: The Magnuson-Stevens Fishery Conservation and Management Act, 16 U.S.C. 1801 et seq., as amended by the Sustainable Fisheries Act, Public Law 104-297, provided for the establishment of an AP to assist in the collection and evaluation of information relevant to the development of any Fishery Management Plan (FMP) or FMP amendment for Atlantic HMS. NMFS consults with and considers the comments and views of AP members when preparing and implementing FMPs or FMP amendments for Atlantic tunas, swordfish, billfish, and sharks.

The AP has previously consulted with NMFS on: Amendment 1 to the Billfish FMP (April 1999); the HMS FMP (April 1999); Amendment 1 to the HMS FMP (December 2003); the Consolidated HMS FMP (October 2006); and Amendments 1, 2, 3, 4, 5a, 5b, 6, 7, 8, and 9 to the 2006 Consolidated HMS FMP (April and October 2008, February and September 2009, May and September 2010, April and September 2011, March and September 2012, January and September 2013, April and September 2014, March and September 2015), among other things.

The intent of this meeting is to consider alternatives for the conservation and management of all Atlantic tunas, swordfish, billfish, and shark fisheries. We anticipate discussing the upcoming Amendments 5b on dusky sharks and 10 on Essential Fish Habitat, including lemon shark aggregations off southeast Florida; reviewing implementation of Final Amendment 9 on smoothhound sharks and Final Amendment 7 on bluefin tuna management; and progress updates on the final rule to implement the electronic bluefin tuna documentation system and the various other rulemakings. We also anticipate discussing a survey of Atlantic HMS tournaments that is in development, a request from the South Atlantic Fishery Management Council to consider management changes regarding blacknose sharks, and domestic implementation of recommendations from the 2015 meeting of the International Commission for the Conservation of Atlantic Tunas. We also intend to invite other NMFS offices to provide updates on their activities relevant to HMS fisheries such as the IUU Task Force implementation and international trade, and DeepWater Horizon Pelagic Longline Project.

Additional information on the meeting and a copy of the draft agenda will be posted prior to the meeting at: http://www.nmfs.noaa.gov/sfa/hms/advisory_panels/hms_ap/meetings/ap_meetings.html.

Special Accommodations

This meeting is physically accessible to people with disabilities. Requests for sign language interpretation or other auxiliary aids should be directed to Guy DuBeck at (301) 427-8503 at least 7 days prior to the meeting.

Dated: February 11, 2016.
Emily H. Menashes,
Acting Director, Office of Sustainable Fisheries, National Marine Fisheries Service.

[FR Doc. 2016-03272 Filed 2-17-16; 8:45 am]

BILLING CODE 3510-22-P